COMMISSION ON CIVIL RIGHTS

Agenda and Notice of Public Meeting of the Massachusetts Advisory Committee

Notice is hereby given, pursuant to the provisions of the rules and regulations of the U.S. Commission on Civil Rights, that a meeting of the Massachusetts Advisory Committee to the Commission will convene at 12 p.m. and adjourn at 5 p.m. on April 4, 2003, at the University of Massachusetts—Boston Graduate College of Education conference room, Wheatley Building, 1st floor, room 075, 100 Morrissey Boulevard, Boston, Massachusetts 02125-3393. The purpose of the meeting is orientation and planning future program activity.

Persons desiring additional information, or planning a presentation to the Committee, should contact Aonghas St-Hilaire, of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated in Washington, DC, March 19, 2003.
Ivy L. Davis,
Chief, Regional Programs Coordination Unit.

[FR Doc. 03-8186 Filed 4-3-03; 8:45 am]

BILLING CODE 6335-01-P